DEPARTMENT OF DEFENSE

Department of the Army

[Docket ID USA-2016-HQ-0024]

Privacy Act of 1974; System of Records

AGENCY: Department of the Army, DoD.

ACTION: Notice to alter a System of Records.

SUMMARY: The Department of the Army proposes to alter a system of records notice A0190-45 OPMG, entitled “Military Police Reporting Program Records (MPRP)” in its existing inventory of records systems subject to the Privacy Act of 1974, as amended. This system provides detailed criminal investigative information to Commanders and designated Army officials to foster a positive environment, promote and safeguard the morale, physical well-being and general welfare of soldiers in their units. MPRP also enables the maintenance of discipline, law, and order through investigation of complaints and incidents and possible criminal prosecution, civil court action, or regulatory order in accordance with United States Law.

DATES: Comments will be accepted on or before July 20, 2016. This proposed action will be effective on the date following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate for Oversight and Compliance, Regulatory and Audit Matters Office, 4800 Mark Center Drive, Mailbox #24, Alexandria, VA 22350-1700.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Tracy Rogers, Department of the Army, Privacy Office, U.S. Army Records Management and Declassification Agency, 7701 Telegraph Road, Casey Building, Suite 144, Alexandria, VA 22325-3905; telephone (703) 428-6185.

SUPPLEMENTARY INFORMATION: The Department of the Army's notices for systems of records subject to the Privacy Act of 1974 (5 U.S.C. 552a), as amended, have been published in the Federal Register and are available from the address in FOR FURTHER INFORMATION CONTACT or from the Defense Privacy and Civil Liberties Division Web site at http://dpcld.defense.gov/. The proposed systems reports, as required by 5 U.S.C. 552a(r) of the Privacy Act, as amended, were submitted on May 27, 2016, to the House Committee on Oversight and Government Reform, the Senate Committee on Homeland Security and Governmental Affairs, and the Office of Management and Budget (OMB) pursuant to paragraph 4 of Appendix I to OMB Circular No. A-130, “Federal Agency Responsibilities for Maintaining Records About Individuals,” revised November 28, 2000 (December 12, 2000 65 FR 77677).

Dated: June 15, 2016.
Aaron Siegel,
Alternate OSD Federal Register Liaison Officer, Department of Defense.

A0190-45 OPMG

System name:

Military Police Reporting Program Records (MPRP) (November 19, 2012, 77 FR 69445).

Changes:

System ID:

Delete entry and replace with “A0190-45 OPMG (CID).”

System name:

Delete entry and replace with “Criminal Investigation Command (CID) Information Management System Records (CIMS).”

System location:

Delete entry and replace with “Decentralized to Army installations which created the Military Police Report. Official mailing addresses are published as an appendix to the Army's compilation of systems of records notices. The official copy of the military police report and other law enforcement related documents are maintained at the U.S. Army Crime Records Center, 27130 Telegraph Road, Quantico, VA 22134-2253.

Automated records of the Military Police Report (MPR) and Reports of Investigation (ROI) are maintained by the U.S. Army Criminal Investigation Command (USACIDC) G6 as part of the CID Information Management Systems (CIMS) suite of Army Law Enforcement (LE) applications located at 27130 Telegraph Road, Quantico, VA 22134-2253.”

Categories of individuals covered by the system:

Delete entry and replace with “Any individual, civilian, government civilian employee, or military personnel, involved in or suspected of being involved in, reporting or witnessing possible criminal activity affecting the interests, property, and/or personnel of the U.S. Army.”

Categories of records in the system:

Delete entry and replace with “Criminal information or investigative files involving the Department of the Army which may consist of military police reports or similar reports containing investigative data, supporting or sworn statements, affidavits, provisional passes, receipts for prisoners or detained persons, reports of action taken, disposition of cases, results of Army Law Enforcement compliance and assessments, police officer credentials, and Military Working Dog Team records.

Specific data to include: Name, Social Security Number (SSN), DOD ID Number, rank, date and place of birth, chronology of events, reports of investigation and criminal intelligence reports containing statements of witnesses, suspects, subject and responding police officer, summary and administrative data pertaining to preparation and distribution of the report, basis for allegations, Serious or Sensitive Incident Reports, modus operandi and other investigative information from Federal, State, and local investigative and intelligence agencies and departments. Indices contain codes for the type of crime, location of investigation, year and date of offense, names and personal identifiers consisting of photos, driver license numbers, Service component, organization, sex, marital status, height, weight, eye color, hair color, race, ethnicity, complexion, nation of origin, home and work telephone numbers, and citizenship of persons who have been subjects of electronic surveillance, suspects, subjects and victims of crimes, report number which allows access to records noted above; agencies, firms, Army and Defense Department organizations which were the subjects or victims of criminal investigations, and disposition and suspense of offenders listed in criminal investigative case files. Witness identification data consisting of name, SSN, rank, date and place of birth, driver license number, Service Component, organization, sex, marital status, height, weight, eye color, hair color, race, ethnicity, complexion, nation of origin, home and work telephone numbers, and citizenship.”

Authority for maintenance of the system:

Delete entry and replace with “10 U.S.C. 3013, Secretary of the Army; 18 U.S.C. 921-922, Brady Handgun Violence Prevention Act; 28 U.S.C. 534, Uniform Federal Crime Reporting Act of 1988; 42 U.S.C. 5119 et seq., National Child Protection Act of 1993; 42 U.S.C. 10607, Victims' Rights and Restitution Act of 1990; Section 105 of the Immigration and Naturalization Act of 1952; DoD Directive 1030.02, Victim and Witness Assistance; Army Regulation 190-45, Military Police Law Enforcement Reporting; Army Regulation 195-2, Criminal Investigation Activities; Army Regulation 190-12, Military Police Military Working Dog Program; and E.O. 9397 (SSN), as amended.”

Purpose:

Delete entry and replace with “Provides detailed criminal investigative information to Commanders and designated Army officials to foster a positive environment, promote and safeguard the morale, physical well-being and general welfare of soldiers in their units. Enables the maintenance of discipline, law, and order through investigation of complaints and incidents and possible criminal prosecution, civil court action, or regulatory order in accordance with United States Law.

To conduct criminal investigations, crime prevention, prevention of high risk behavior and criminal intelligence activities; to accomplish management studies involving the analysis, compilation of statistics, and quality control, to ensure that completed investigations are legally sufficient and result in overall improvement in techniques, training and professionalism. Includes personnel security, internal security, criminal, and other law enforcement matters, all of which are essential to the effective operation of the Department of the Army.

To provide Commanders with criminal history reports, in accordance with Army Policy, to identify soldiers with founded criminal offenses and open investigations occurring during their period of service.

To determine suitability for access or continued access to classified information; suitability for promotion, employment, or assignment; suitability for access to military installations or industrial firms engaged in government projects/contracts; suitability for awards or similar benefits; use in current law enforcement investigation or program of any type including applicants; use in judicial or adjudicative proceedings including litigation or in accordance with a court order; advising higher authorities and Army commands of the important developments impacting on security, good order or discipline; reporting of statistical data to Army commands and higher authority.”

Routine uses of records maintained in the system, including categories of users and the purposes of such uses:

Delete entry and replace with “In addition to those disclosures generally permitted under 5 U.S.C. 552a(b) of the Privacy Act of 1974, as amended, the records contained therein may specifically be disclosed outside the DoD as a routine use pursuant to 5 U.S.C. 552a(b)(3) as follows:

Information concerning criminal or possible criminal activity is disclosed to Federal, state, local and/or foreign law enforcement agencies in accomplishing and enforcing criminal laws; analyzing modus operandi, detecting organized criminal activity, or criminal justice employment. Information may be disclosed to foreign countries under the provisions of international agreements and arrangements including the Status of Forces Agreements regulating the stationing and status of DoD military and civilian personnel, or Treaties.

To the Department of Veterans Affairs to adjudicate veteran claims for disability benefits, post-traumatic stress disorder, and other veteran entitlements.

To Federal, state, and local agencies to comply with the Victim and Witness Assistance Program and the Victims' Rights and Restitution Act of 1990, when the agency is requesting information on behalf of the individual; local law enforcement agencies and private sector entities for the purposes of complying with mandatory background checks, i.e., Brady Handgun Violence Prevention Act (18 U.S.C. 922) and the National Child Protection Act of 1993 (42 U.S.C. 5119 et seq.); local child protection services or family support agencies for the purpose of providing assistance to the individual.

To victims and witnesses of a crime for purposes of providing information consistent with the requirements of the Victim and Witness Assistance Program, regarding the investigation and disposition of an offense.

To the Immigration and Naturalization Service, Department of Justice, for use in alien admission and naturalization inquiries conducted under Section 105 of the Immigration and Naturalization Act of 1952, as amended.

The DoD Blanket Routine Uses set forth at the beginning of the Army's compilation of systems of records notices may also apply to this system. The complete list of DoD Blanket Routine Uses can be found online at: http://dpcld.defense.gov/Privacy/SORNsIndex/BlanketRoutineUses.aspx.”

Policies and practices for storing, retrieving, accessing, retaining, and disposing of records in the system:

Storage:

Delete entry and replace with “Electronic storage media and paper records.”

* * * * *

Safeguards:

Delete entry and replace with “Access to system with sensitive information is controlled by DoD Common Access Card (CAC) authentication with Public Key Infrastructure (PKI) encryption for authorized users having a need-to-know. CID grants access to the system via DD Form 2875 when endorsed by the individual's supervisor as need to know.

Criminal records reports are sent via authorized government electronic mail with PKI encryption or through a DoD CAC enabled system with authentication through PKI encryption to Commanders with a need-to-know. Need-to-know includes persons whose official duties require access to information for purposes relating to risk assessment and management.

Servers are maintained in a secure DOD facility with restricted access.

Paper records stored in secure container/file cabinet with access restricted to those with a need-to-know.”

Retention and disposal:

Delete entry and replace with “Criminal investigations data/information is retained for 40 years after date of final report.

Soldier's criminal history reports sent to commanders are deleted or destroyed by shredding after the Soldier departs the unit.”

System manager and address:

Delete entry and replace with “U.S. Army Criminal Investigation Command (USACIDC) G6, 27130 Telegraph Road, Quantico, VA 22134-2253.”

* * * * *

Contesting record procedures:

Delete entry and replace with “The Army's rules for accessing records and for contesting contents and appealing initial agency determinations are contained in 32 CFR part 505, Army Privacy Program or may be obtained from the system manager.”

* * * * *

[FR Doc. 2016-14478 Filed 6-17-16; 8:45 am]

BILLING CODE 5001-06-P